DEPARTMENT OF ENERGY

Federal Energy Regulatory Commission

[Project No. 13-039]

Green Island Power Authority and Albany Engineering Corporation; Notice of Application Accepted for Filing, Intent To Prepare an Environmental Assessment and Soliciting Comments, Motions To Intervene, and Protests

Take notice that the following hydroelectric application has been filed with the Commission and is available for public inspection:

a. Application Type: Amendment of license.

b. Project No: 13-039.

c. Date Filed: April 8, 2020.

d. Applicant: Green Island Power Authority and Albany Engineering Corp.

e. Name of Project: Green Island Project.

f. Location: The project is located on the Hudson River in Albany County, New York.

g. Filed Pursuant to: Federal Power Act, 16 U.S.C. 791a-825r.

h. Applicant Contact: Wendy Jo Carey, P.E., 5 Washington Square, Albany, NY 12205, (518) 456-7712 email: wendy@albanyengineering.com.

i. FERC Contact: Joseph Enrico, (212) 273-5917, joseph.enrico@ferc.gov.

j. Deadline for filing comments, motions to intervene, and protests: June 15, 2020.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-13-039. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee proposes to amend the project license to remove the expansion of the forebay and existing powerhouse expansion on its east and west sides to accommodate four new 6.0 megawatt (MW) generating units; remove from the project license four new replacement 6.0 MW generating units in the existing powerhouse; remove from the project license construction of new hydraulically operated crest gates along the top of the main spillway and maintain the existing fixed crest of the main spillway at the existing 14.33 feet MSL; remove from the project license construction of a new bulkhead structure and reconfiguration of the auxiliary spillway; construct the new downstream fish exclusion screen, new downstream fish passage facility, and new plunge pool in and adjacent to the existing forebay; relocate construction of a new trash boom extending across and upstream of the forebay; install new pneumatic flashboards, four feet in height, on the main spillway and relocate the existing pneumatic flashboards, two feet in height, to the auxiliary spillway to maintain the authorized operating level of 18.33 feet MSL; remove from the project license construction of two new Denil fishways and replace with two fish lifts for upstream fish passage. The licensee does not propose any changes to the project's existing operating regime. In addition, recreation improvements in Article 412 were to be constructed in conjunction with the full expansion of the project; these improvements are not applicable for the proposed amendment. The request proposes amending Article 412 to require improvements to the shoreline from the tailrace to River Park for fishing and other river access activities, construction of an informational kiosk in River Park, and specific improvements to Paine Street Park. These enhancements were requested by the Town and Village of Green Island and the licensee included them as part of its proposal.

l. This application has been accepted for filing and is now ready for environmental analysis. Based on a review of the application and resource agency consultation letters including comments filed to date, Commission staff intends to prepare a single environmental assessment (EA). Commission staff determined that the issues that need to be addressed in its EA have been adequately identified during the pre-filing period, and no new issues are likely to be identified through additional scoping. The EA will consider assessing the potential effects of project operation on aquatic, terrestrial, threatened and endangered species, water quality and quantity, recreation, and cultural and historic resources.

m. In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

n. The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must (1) bear in all capital letters the title COMMENTS, PROTEST, or MOTION TO INTERVENE as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: May 1, 2020.
Kimberly D. Bose,
Secretary.

[FR Doc. 2020-09750 Filed 5-6-20; 8:45 am]

BILLING CODE 6717-01-P